DEPARTMENT OF THE INTERIOR

Bureau of Indian Affairs

San Carlos Irrigation Project—Power Division, Arizona, Power Rate Adjustment

AGENCY: Bureau of Indian Affairs, Interior.

ACTION: Final Notice of Rate Adjustment.

SUMMARY: The Bureau of Indian Affairs (BIA) is adjusting the electric power rates for customers of San Carlos Irrigation Project, Power Division (SCIP/PD) that are subject to Rate Schedule No. 2-General Rate. The Notice of Proposed Rate Adjustment was published in the Federal Register on May 4, 1999, 64 FR 23853. The public and interested parties were provided an opportunity to submit written comments during the 30-day period subsequent to May 4, 1999. No comments were received.

EFFECTIVE DATE: The new rates will become effective on March 7, 2000.

FOR FURTHER INFORMATION CONTACT: Regional Director, Bureau of Indian Affairs, Western Region, P.O. Box 10, Phoenix, Arizona 85001, Telephone (602) 379-6600.

SUPPLEMENTARY INFORMATION: The authority to issue this document is vested in the Secretary of the Interior by 5 U.S.C. 301; the Act of August 7, 1946, c. 802, Section 3 (60 Stat. 895; 25 U.S.C. 385c). The Secretary has delegated this authority to the Assistant Secretary—Indian Affairs pursuant to part 209 Departmental Manual, Chapter 8.1A and Memorandum dated January 25, 1994, from Chief of Staff, Department of the Interior, to Assistant Secretaries, and Heads of Bureaus and Offices. The new rates are specified in the following schedule.

Rate Schedule No. 2—General Rate

1. When does this schedule apply to me?

This schedule applies to you if you:

(a) Receive single and three phase electric service;

(b) Are not a residential user; and

(c) Are not a small non-commercial user.

2. Are there restrictions on my use of power?

(a) You must use any power that we supply you only on your property.

(b) You may not resell any power that we supply to you.

3. How does BIA bill me if I have more than one meter?

If you have more than one meter, we will calculate a separate bill for each meter.

4. What monthly rates will BIA charge?

(a) The following table shows how we will bill you for the power that you use.

For . . . | We will bill you. . .
(1) Any usage up to 50 kilowatt-hours | $ 12.00
(2) Each kilowatt-hour between 50 and 350 | 0.15
(3) Each kilowatt-hour between 351 and 600 | 0.09
(4) Each kilowatt-hour between 601 and 9,000 | 0.06
(5) Each kilowatt-hour over 9,000 | 0.0460

(b) We will add a purchased power adjustment to the rates described in paragraph (a). This adjustment will be the amount (rounded to the nearest $0.0001) that the project pays to its power suppliers.

(c) In every month where your usage is over 200 times your billing demand, we will apply a credit to all of your usage over 9,050 kilowatt-hours. The credit will be $0.007 per kilowatt-hour.

5. What will my minimum monthly bill be?

(a) In all cases, your minimum monthly bill will be at least the greater of:

(1) $12.00, or

(2) $2.14 per kilowatt of billing demand.

(b) If you use power on a recurring seasonal basis, we will calculate the maximum amount of your minimum monthly bill as follows:

(1) We will multiply by 12 your highest monthly minimum computed bill over the preceding 12 months;

(2) We will add up all of your bills for the preceding 12 months;

(3) We will subtract the result of (b)(2) from (b)(1); and

(4) Your minimum monthly bill will be equal to the result we obtain in (b)(3).

6. What terms do I need to know?

(a) “Contract demand” means the number of kilowatts that a customer expects to use. Each contract for 15 kilowatts or more must state the contract demand.

(b) “Actual demand” means one of the following:

(1) The average amount of power used during the 15 consecutive minutes when that average is the greatest for the month, as determined by a suitable meter(s); or

(2) If no suitable meter is available, the connected load or the part of the connected load that we determine appropriate based on use of connected lights, appliances, and equipment.

(c) “Billing demand” means the contract demand or the actual demand, whichever is greater, for a given month.

7. Are any of the other power rates affected?

No other power rates for the project are affected at this time.

Executive Order 12988: The Department has certified to the Office of Management and Budget (OMB) that this rate adjustment meets the applicable standards provided in sections 3(a) and 3(b)(2) of Executive Order 12988.

Executive Order 12866: This rate adjustment is not a significant regulatory action and has been reviewed by the Office of Management and Budget under Executive Order 12866.

Regulatory Flexibility Act: This rate making is not a rule for the purposes of the Regulatory Flexibility Act because it is “a rule of particular applicability relating to rates.” 5 U.S.C. 601(2).

Executive Order 12630: The Department has determined that this rate adjustment does not have significant “takings” implications.

Executive Order 12612: The Department has determined that this rate adjustment does not have significant Federalism effects because it pertains solely to Federal-tribal relations and will not interfere with the roles, rights, and responsibilities of states.

NEPA Compliance: The Department has determined that this rate adjustment does not constitute a major Federal action significantly affecting the quality of the human environment and that no detailed statement is required under the National Environmental Policy Act of 1969.

Paperwork Reduction Act of 1995: This rate adjustment does not contain collections of information requiring approval under the Paperwork Reduction Act of 1995.

Unfunded Mandates Act of 1995: This rate adjustment imposes no unfunded mandates on any governmental or private entity and is in compliance with the provisions of the Unfunded Mandates Act of 1995.

Dated: February 28, 2000.
Kevin Gover,
Assistant Secretary—Indian Affairs.

[FR Doc. 00-5425 Filed 3-6-00; 8:45 am]

BILLING CODE 4310-02-P